DEPARTMENT OF THE INTERIOR

Fish and Wildlife Service

Endangered and Threatened Wildlife and Plants; Final Conservation Strategy for the Grizzly Bear in the Greater Yellowstone Area

AGENCY: Fish and Wildlife Service, Interior.

ACTION: Notice of availability.

SUMMARY: We, the Fish and Wildlife Service (Service), announce the availability of the Final Conservation Strategy for the Grizzly Bear in the Greater Yellowstone Area (Final Conservation Strategy). This document will guide management decisions for the Yellowstone grizzly bear population upon delisting.

ADDRESSES: You may obtain a copy of the Final Conservation Strategy by any of the following means:

1. World Wide Web: http://mountain-prairie.fws.gov/species/mammals/grizzly/yellowstone.htm.

2. U.S. mail or in-person pickup: By appointment, during normal business hours at U.S. Fish and Wildlife Service, University Hall, Room 309, University of Montana, Missoula, MT 59812. Call (406) 243-4903 to make arrangements.

FOR FURTHER INFORMATION CONTACT: Dr. Christopher Servheen, Grizzly Bear Recovery Coordinator (see ADDRESSES above), (406) 243-4903.

SUPPLEMENTARY INFORMATION:

Background

Restoring an endangered or threatened animal or plant to the point where it is no longer in need of the protections under the Endangered Species Act is a primary goal of our endangered species program. Recovery plans help guide the recovery effort by describing actions considered necessary for the conservation of the species, establishing criteria for downlisting and delisting listed species, and estimating time and cost for implementing the measures needed for recovery measures. Under the provisions of the Endangered Species Act of 1973, as amended (Act) (16 U.S.C. 1531 et seq., we approved the first Grizzly Bear Recovery Plan on January 29, 1982 (U.S. Fish and Wildlife Service 1982). In 1993, we approved a revision to the Grizzly Bear Recovery Plan (U.S. Fish and Wildlife Service 1993), which included additional tasks and new information that increased the focus and effectiveness of recovery efforts. Since the 1993 revision, we have approved three additional supplements to the Recovery Plan (U.S. Fish and Wildlife Service 1997, 1998, 2007).

The Recovery Plan stated that a conservation strategy should be developed for each ecosystem before delisting. The purpose of the Final Conservation Strategy (U.S. Fish and Wildlife Service 2007) is to serve as the regulatory mechanism guiding our management as we delist and establish the monitoring approach that will be taken for the Yellowstone grizzly bear population. The Final Conservation Strategy satisfies the requirements for post-delisting monitoring required by section 4(g) of the Act for species delisted due to recovery.

Considering all of the comments received, we finalized the Final Conservation Strategy for the Grizzly Bear in the Greater Yellowstone Area.

References Cited

For a complete list of all references cited herein, contact the Grizzly Bear Recovery Coordinator (see ADDRESSES above).

Authority

The authority for this Notice is section 4(f) of the Endangered Species Act, 16 U.S.C. 1533(f).

Dated: January 10, 2007.
James J. Slack,
Deputy Regional Director, Denver, Colorado.

[FR Doc. E7-4566 Filed 3-12-07; 8:45 am]

BILLING CODE 4310-55-P